DEPARTMENT OF TRANSPORTATION

Federal Motor Carrier Safety Administration

[Docket No. FMCSA-2011-0097]

Pilot Program on NAFTA Long-Haul Trucking Provisions

AGENCY: Federal Motor Carrier Safety Administration (FMCSA), DOT.

ACTION: Notice of availability.

SUMMARY: FMCSA announces the availability of a Final Environmental Assessment (FEA) that evaluates the potential environmental impacts resulting from the implementation of its United States-Mexico cross-border long-haul trucking pilot program. FMCSA received five comments to its draft environmental assessment (DEA) and responds to those comments in the FEA. FMCSA concludes that the potential environmental impacts from the pilot program are not significant and do not warrant additional environmental analysis in the form of an Environmental Impact Statement. FMCSA issues a Finding of No Significant Impact (FONSI) based on the conclusions in the FEA, which is also available in the docket.

Instructions: To view the FEA or the FONSI, go to the online docket (Regulations.gov) at http://www.regulations.gov/ and enter in the docket number (FMCSA-2011-0097) and search for the “Final Environmental Assessment” or “FONSI.”

Docket: For access to the docket to read background documents or comments received, go to http://www.regulations.gov at any time or to DOT Headquarters, West Building Ground Floor, Room W12-140, 1200 New Jersey Avenue, SE., Washington, DC, between 9 a.m. and 5 p.m., e.t., Monday through Friday, except Federal holidays.

Privacy Act: Anyone is able to search the electronic form for all comments received into any of our dockets by the name of the individual submitting the comment. You may review the U.S. Department of Transportation's (DOT) complete Privacy Act Statement in the Federal Register published on January 17, 2008 (73 FR 3316), or you may visit http://edocket.access.gpo.gov/2008/pdf/E8-785.pdf.

FOR FURTHER INFORMATION CONTACT: Michael M. Johnsen, Environmental Protection Specialist, Analysis Division, Federal Motor Carrier Safety Administration, U.S. Department of Transportation, 1200 New Jersey Avenue, SE., Washington, DC 20590, (202) 366-4111.

SUPPLEMENTARY INFORMATION:

Background on the Pilot Project on the U.S.-Mexico Cross-Border Long-Haul Trucking Program

The pilot program is part of FMCSA's implementation of the North American Free Trade Agreement (NAFTA) cross-border long-haul trucking provisions. This pilot program would allow Mexico-domiciled motor carriers to operate throughout the United States for up to 3 years. U.S.-domiciled motor carriers would be granted reciprocal rights to operate in Mexico for the same period. Participating Mexican carriers and drivers would be required to comply with all applicable U.S. laws and regulations, including those concerned with motor carrier safety, customs, immigration, vehicle registration and taxation, and fuel taxation. The safety of the participating carriers would be tracked closely by FMCSA with input from the Motor Carrier Safety Advisory Committee, a Federal advisory committee. For further information regarding this pilot program, including additional background and comments, please see the Federal Register notice of the Pilot Program on NAFTA Long Haul Trucking Provisions in docket FMCSA-2011-0097.

Final Environmental Assessment

In accordance with the National Environmental Policy Act of 1969 (NEPA) (section 102(2)(c)), as implemented by the Council on Environment Quality regulations (40 CFR parts 1500-1508), FMCSA's Order 5610.1, issued March 1, 2004 (69 FR 9680), and other applicable guidance and requirements, FMCSA prepared a DEA for the U.S.-Mexican cross-border long-haul trucking program. FMCSA analyzed the potential impacts to the environment that may result from implementing the pilot project. In the DEA, FMCSA evaluated environmental issues such as emissions from vehicles, air quality impacts, and other pertinent matters, and requested public comments. FMCSA received five comments to the DEA and responded to those comments in the FEA. Additionally, after reviewing those comments, FMCSA has concluded that the potential environmental impacts from the pilot program are not significant and do not warrant additional environmental analysis in the form of an Environmental Impact Statement. Accordingly, FMCSA is issuing a FONSI based on the conclusions in the FEA, which is also available in the docket.

Issued on: September 27, 2011.
Kenneth M. Leonard,
Special Projects Officer, Office of Research and Information Technology, FMCSA.

[FR Doc. 2011-25389 Filed 9-30-11; 8:45 am]

BILLING CODE 4910-EX-P